NUCLEAR REGULATORY COMMISSION

[NRC-2017-0182]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from August 1 to August 14, 2017. The last biweekly notice was published on August 15, 2017.

DATES: Comments must be filed by September 28, 2017. A request for a hearing must be filed by October 30, 2017.

ADDRESSES: You may submit comments by any of the following methods:

• Federal Rulemaking Web site: Go to http://www.regulations.gov and search for Docket ID NRC-2017-0182. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: TWFN-8-D36M, U.S. Nuclear Regulatory Commission, Washington, DC 20555-0001.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington DC 20555-0001; telephone: 301-415-1384, email: Janet.Burkhardt@nrc.gov.

SUPPLEMENTARY INFORMATION:

I. Obtaining Information and Submitting Comments

A. Obtaining Information

Please refer to Docket ID NRC-2017-0182, facility name, unit numbers, plant docket number, application date, and subject when contacting the NRC about the availability of information for this action. You may obtain publicly-available information related to this action by any of the following methods:

• Federal Rulemaking Web site: Go to http://www.regulations.gov and search for Docket ID NRC-2017-0182.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the document.

• NRC's PDR: You may examine and purchase copies of public documents at the NRC's PDR, Room O1-F21, One White Flint North, 11555 Rockville Pike, Rockville, Maryland 20852.

B. Submitting Comments

Please include Docket ID NRC-2017-0182, facility name, unit numbers, plant docket number, application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC's Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Carolinas, LLC, Docket Nos. 50-413 and 50-414, Catawba Nuclear Station, Units 1 and 2 (CNS), York County, South Carolina

Duke Energy Carolinas, LLC, Docket Nos. 50-369 and 50-370, McGuire Nuclear Station, Units 1 and 2 (MNS), Mecklenburg County, North Carolina

Duke Energy Carolinas, LLC, Docket Nos. 50-269, 50-270, and 50-287, Oconee Nuclear Station, Units 1, 2, and 3 (ONS), Oconee County, South Carolina

Duke Energy Progress, LLC, Docket No. 50-400, Shearon Harris Nuclear Power Plant, Unit 1 (HNP), Wake County, North Carolina

Duke Energy Progress, LLC, Docket No. 50-261, H. B. Robinson Steam Electric Plant, Unit No. 2 (RNP), Darlington County, South Carolina

Date of amendment request: July 18, 2017. A publicly-available version is in ADAMS under Accession No. ML17199F771.

Description of amendment request: The amendments would revise the technical specifications (TSs) based on Technical Specification Task Force (TSTF) Traveler TSTF-529, Revision 4, “Clarify Use and Application Rules” (ADAMS Accession No. ML16062A271). The changes would revise and clarify the TS usage rules for completion times, limiting conditions for operation (LCOs), and surveillance requirements (SRs).

Basis for proposed no significant hazards consideration determination: As required by 10 CFR 50.91(a), the licensee has provided its analysis of the issue of no significant hazards consideration, which is presented below:

1. Does the proposed change involve a significant increase in the probability or consequences of an accident previously evaluated?

Response: No.

The proposed changes to CNS, MNS, ONS, and RNP [TS] Section 1.3, and CNS, MNS, and RNP LCO 3.0.4 have no effect on the requirement for systems to be Operable and have no effect on the application of TS actions. The proposed change to CNS, MNS, ONS, and RNP SR 3.0.3 (TS 4.0.3 for HNP) states that the allowance may only be used when there is a reasonable expectation the surveillance will be met when performed. Since the proposed changes do not significantly affect system Operability, the proposed change will have no significant effect on the initiating events for accidents previously evaluated and will have no significant effect on the ability of the systems to mitigate accidents previously evaluated.

Therefore, it is concluded that this change does not involve a significant increase in the probability or consequences of an accident previously evaluated.

2. Does the proposed change create the possibility of a new or different kind of accident from any accident previously evaluated?

Response: No.

The proposed change to the TS usage rules does not affect the design or function of any plant systems. The proposed change does not change the Operability requirements for plant systems or the actions taken when plant systems are not operable.

Therefore, it is concluded that this change does not create the possibility of a new or different kind of accident from any accident previously evaluated.

3. Does the proposed change involve a significant reduction in a margin of safety?

Response: No.

The proposed change clarifies the application of TS 1.3 and LCO 3.0.4 and does not result in changes in plant operation. SR 3.0.3 (TS 4.0.3 for HNP) is revised to allow application of SR 3.0.3 when an SR has not been previously performed, if there is reasonable expectation that the SR will be met when performed. This expands the use of SR 3.0.3 (TS 4.0.3 for HNP) while ensuring the affected system is capable of performing its safety function. As a result, plant safety is either improved or unaffected.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, Duke Energy Corporation, 550 South Tryon Street, Mail Code DEC45A, Charlotte, NC 28202.

NRC Branch Chief: Undine Shoop.

Duke Energy Progress, LLC, Docket No. 50-400, Shearon Harris Nuclear Power Plant, Unit 1 (HNP), Wake and Chatham Counties, North Carolina

Date of amendment request: May 22, 2017. A publicly-available version is in ADAMS under Accession No. ML17142A411.

Description of amendment request: The amendment would revise HNP dose consequences for the facility, as described in the HNP Final Safety Analysis Report, to provide gap release fractions for high-burnup fuel rods that exceed the 6.3 kilowatt per foot (kW/ft) linear heat generation rate limit detailed in Table 3 of Regulatory Guide (RG) 1.183, Alternative Radiological Source Terms for Evaluating Design Basis Accidents at Nuclear Power Reactors.

Basis for proposed no significant hazards consideration determination: As required by 10 CFR 50.91(a), the licensee has provided its analysis of the issue of no significant hazards consideration, which is presented below:

1. Does the proposed change involve a significant increase in the probability or consequences of an accident previously evaluated?

The proposed change involves using gap release fractions for high-burnup fuel rods (i.e., greater than 54 GWD/MTU [gigawatt days per metric ton unit]) that exceed the 6.3 kW/ft linear heat generation rate (LHGR) limit detailed in Table 3, Footnote 11 of RG 1.183. Increased gap release fractions were determined and accounted for in the dose analysis for HNP. The dose consequences reported in the Final Safety Analysis Report (FSAR) were reanalyzed for fuel handling accidents only. Dose consequences were not reanalyzed for other non-fuel-handling accidents since no fuel rod that is predicted to enter departure from nucleate boiling (DNB) will be permitted to operate beyond the limits of RG 1.183, Table 3, Footnote 11. The current NRC requirements, as described in 10 CFR 50.67, specifies dose acceptance criteria in terms of Total Effective Dose Equivalent (TEDE). The revised dose consequence analyses for the fuel handling events at HNP meet the applicable TEDE dose acceptance criteria (specified also in RG 1.183). A slight increase in dose consequences is exhibited. However, the increase is not significant and the new TEDE results are below regulatory acceptance criteria.

The changes proposed do not affect the precursors for fuel handling accidents analyzed in Chapter 15 of the HNP FSAR. The probability remains unchanged since the accident analyses performed and discussed in the basis for the FSAR changes involve no change to a system, structure or component that affects initiating events for any FSAR Chapter 15 accident evaluated.

Therefore, the proposed change does not involve a significant increase in the probability or consequences of an accident previously evaluated.

2. Does the proposed change create the possibility of a new or different kind of accident from any previously evaluated?

The proposed change involves using gap release fractions for high-burnup fuel rods (i.e., greater than 54 GWD/MTU) that exceed the 6.3 kW/ft LHGR limit detailed in Table 3, Footnote 11 of RG 1.183. Increased gap release fractions were determined and accounted for in the dose analysis for HNP. The dose consequences reported in HNP's FSAR were reanalyzed for fuel handling accidents only. Dose consequences were not reanalyzed for other non-fuel-handling accidents since no fuel rod that is predicted to enter departure from nucleate boiling (DNB), will be permitted to operate beyond the limits of RG 1.183, Table 3, Footnote 11.

The proposed change does not involve the addition or modification of any plant equipment. The proposed change has the potential to affect future core designs for HNP. However, the impact will not be beyond the standard function capabilities of the equipment. The proposed change involves using gap release fractions that would allow high-burnup fuel rods (i.e., greater than 54 GWD/MTU) to exceed the 6.3 kW/ft LHGR limit detailed in Table 3, Footnote 11 of RG 1.183. Accounting for these new gap release fractions in the dose analysis for HNP does not create the possibility of a new accident.

Therefore, the proposed change does not create the possibility of a new or different kind of accident from any accident previously evaluated.

3. Does the proposed change involve a significant reduction in a margin of safety?

The proposed change involves using gap release fractions for high-burnup fuel rods (i.e., greater than 54 GWD/MTU) that exceed the 6.3 kW/ft LHGR limit detailed in Table 3, Footnote 11 of RG 1.183. Increased gap release fractions were determined and accounted for in the dose analysis for HNP. The dose consequences reported in HNP's FSAR were reanalyzed for fuel handling accidents only. Dose consequences were not reanalyzed for other non-fuel-handling accidents since no fuel rod that is predicted to enter departure from nucleate boiling (DNB) will be permitted to operate beyond the limits of RG 1.183, Table 3, Footnote 11.

The proposed change has the potential for an increased postulated accident dose at HNP. However, the analysis demonstrates that the resultant doses are within the appropriate acceptance criteria. The margin of safety, as defined by 10 CFR 50.67 and Regulatory Guide 1.183, has been maintained. Furthermore, the assumptions and input used in the gap release and dose consequences calculations are conservative. These conservative assumptions ensure that the radiation doses calculated pursuant to Regulatory Guide 1.183 and cited in this LAR [license amendment request] are the upper bounds to radiological consequences of the fuel handling accidents analyzed. The analysis shows that with increased gap release fractions accounted for in the dose consequences calculations there is margin between the offsite radiation doses calculated and the dose limits of 10 CFR 50.67 and acceptance criteria of Regulatory Guide 1.183. The proposed change will not degrade the plant protective boundaries, will not cause a release of fission products to the public, and will not degrade the performance of any structures, systems or components important to safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara Nichols, Deputy General Counsel, Duke Energy Corporation, 550 South Tryon St., M/C DEC45A, Charlotte, NC 28202.

NRC Branch Chief: Undine S. Shoop.

Exelon Generation Company, LLC, Docket Nos. STN 50-456 and STN 50-457, Braidwood Station, Units 1 and 2, Will County, Illinois and Docket Nos. STN 50-454 and STN 50-455, Byron Station, Unit Nos. 1 and 2, Ogle County, Illinois

Date of amendment request: June 30, 2017. A publicly-available version is in ADAMS under Accession No. ML17181A276.

Description of amendment request: The amendments would revise Technical Specification (TS) 3.7.11, “Control Room Ventilation (VC) Temperature Control System,” to modify the TS Actions for two inoperable VC temperature control system trains.

Basis for proposed no significant hazards consideration determination: As required by 10 CFR 50.91(a), the licensee has provided its analysis of the issue of no significant hazards consideration, which is presented below:

1. Does the proposed amendment involve a significant increase in the probability or consequences of an accident previously evaluated?

Response: No.

The VC Temperature Control System is not an initiator of any accident previously evaluated. As a result, the probability of an accident previously evaluated is not increased. The consequences of an accident during the proposed 24 hour Completion Time are no different than the consequences of an accident in Modes 1, 2, 3, and 4 during the existing 1 hour Completion Time provided in LCO [limiting condition for operation] 3.0.3 to prepare for a shutdown. The only accident previously evaluated in Modes 5 or 6 is a fuel handling accident. The accident evaluation does not assume a loss of offsite electrical power or additional failures, and the mitigating actions to maintain control room temperature less than or equal to 80 °F [degree Fahrenheit] will still be available should a fuel handling accident occur. As a result, providing 24 hours to restore one train of control room cooling does not significantly increase the consequences of a fuel handling accident over the current requirement.

Therefore, the proposed change does not involve a significant increase in the probability or consequences of an accident previously evaluated.

2. Does the proposed amendment create the possibility of a new or different kind of accident from any previously evaluated?

Response: No.

All plant equipment controlled from the control room and operator response actions in response to a design basis accident will be maintained as currently designed and applied. No new equipment or operator responses are required in response to a design basis accident as part of this proposed change. The proposed change will not alter the design or function of the control room or the VC Temperature Control System. Should the new Required Actions not be met, the existing and proposed Required Actions require preparation for an orderly plant shutdown, or suspension of positive reactivity additions and suspension of movement of irradiated fuel assemblies, as applicable based on the mode of applicability.

Therefore, the proposed change does not create the possibility of a new or different kind of accident from any previously evaluated.

3. Does the proposed amendment involve a significant reduction in a margin of safety?

Response: No.

The proposed change provides a limited period of time to restore an inoperable VC Temperature Control System train instead of interrupting plant operations, possibly requiring an orderly plant shutdown of both units, or suspension of movement of irradiated fuel assemblies and suspension of positive reactivity additions. A plant disruption or transient may be avoided with mitigating actions taken and the control room area temperature maintained. The potential to avoid a plant transient in conjunction with maintaining the control room temperature offsets any risk associated with the limited Completion Time. The proposed change does not impact a design basis, TS Limiting Condition for Operation, limiting safety system setting, or safety limit specified in TSs.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Nuclear, 4300 Winfield Road, Warrenville, IL 60555.

NRC Branch Chief: David J. Wrona.

Exelon Generation Company, LLC, Docket Nos. STN 50-456 and STN 50-457, Braidwood Station, Units 1 and 2, Will County, Illinois and Docket Nos. STN 50-454 and STN 50-455, Byron Station, Unit Nos. 1 and 2, Ogle County, Illinois

Date of amendment request: June 30, 2017. A publicly-available version is in ADAMS under Accession No. ML17187A191.

Description of amendment request: The amendments would revise Technical Specification (TS) 3.1.4, “Rod Group Alignment Limits”; TS 3.1.5, “Shutdown Bank Insertion Limits”; TS 3.1.6, “Control Bank Insertion Limits”; and TS 3.1.7, “Rod Position Indication.”

Basis for proposed no significant hazards consideration determination: As required by 10 CFR 50.91(a), the licensee has provided its analysis of the issue of no significant hazards consideration, which is presented below:

1. Does the proposed change involve a significant increase in the probability or consequences of an accident previously evaluated?

Response: No.

Control and shutdown rods are assumed to insert into the core to shut down the reactor in evaluated accidents. Rod insertion limits ensure that adequate negative reactivity is available to provide the assumed shutdown margin (SDM). Rod alignment and overlap limits maintain an appropriate power distribution and reactivity insertion profile.

Control and shutdown rods are initiators to several accidents previously evaluated, such as rod ejection. The proposed changes do not change the limiting conditions for operation pertaining to the rods or make any technical changes to the Surveillance Requirements (SRs) governing the rods.

Therefore, the proposed change has no significant effect on the probability of any accident previously evaluated.

Revising the TS Actions to provide a limited time to repair rod movement control has no effect on the SDM assumed in the accident analysis as the proposed Actions require verification that SDM is maintained. The effects on power distribution will not cause a significant increase in the consequences of any accident previously evaluated as all TS requirements on power distribution continue to be applicable.

Revising the TS Actions to provide an alternative to frequent use of the moveable incore detector system or the Power Distribution Monitoring System to verify the position of rods with inoperable rod position indicator does not change the requirement for the rods to be aligned and within the insertion limits.

Therefore, the assumptions used in any accidents previously evaluated are unchanged and there is no significant increase in the consequences.

The proposed change resolves conflicts within the TS to ensure that the intended Actions are followed when equipment is inoperable. Actions taken for inoperable equipment are not assumptions in the accidents previously evaluated and have no significant effect on the accident consequences.

The proposed change to increase consistency within the TS has no effect on the consequences of accidents previously evaluated as the proposed change clarifies the application of the existing requirements and does not change the intent.

Therefore, the proposed change does not involve a significant increase in the probability or consequences of an accident previously evaluated.

2. Does the proposed change create the possibility of a new or different kind of accident from any accident previously evaluated?

Response: No.

The proposed change does not involve a physical alteration of the plant (i.e., no new or different type of equipment will be installed). The change does not alter the assumptions made in the safety analyses. The proposed change does not alter the limiting conditions for operation pertaining to the rods or make any technical changes to the SRs governing the rods. The proposed change to the TS Required Actions maintains safety when equipment is inoperable and does not introduce any new failure modes.

Therefore, the proposed change does not create the possibility of a new or different kind of accident from any previously evaluated.

3. Does the proposed change involve a significant reduction in a margin of safety?

Response: No.

The proposed change to provide sufficient time to repair rods that are Operable but immovable does not result in a significant reduction in the margin of safety because all rods must be verified to be Operable, and all other rod banks must be within the insertion limits. The remaining proposed changes to make the requirements internally consistent do not affect the margin of safety as the changes do not affect the ability of the rods to perform their specified safety function.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: David J. Wrona.

Florida Power & Light Company, Docket Nos. 50-250 and 251, Turkey Point Nuclear Generating Unit Nos. 3 and 4, Miami-Dade County, Florida

Date of application for amendment: June 28, 2017. A publicly-available version is in ADAMS under Accession No. ML17180A447.

Description of amendment request: The amendments would modify the Technical Specifications (TSs) by relocating to licensee-controlled documents, select acceptance criteria specified in TS surveillance requirements (SRs) credited for satisfying Inservice Testing (IST) Program and Inservice Inspection Program requirements, deleting the SRs for the American Society of Mechanical Engineers (ASME) Code Class 1, 2, and 3 components, replacing references to the Surveillance Frequency Control Program (SFCP) with references to the Turkey Point IST Program where appropriate, establishing a Reactor Coolant Pump (RCP) Flywheel Inspection Program, and related editorial changes.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes provide added assurance that inservice testing will be performed in the manner and within the timeframes established by 10 CFR 50.55(a). The deletion of SR 4.0.5 and the deletion of IST acceptance criteria from SR 4.5.2.c and SR 4.6.2.1.b neither affects the conduct nor the periodicity of testing which demonstrates the operational readiness of safety-related pumps and valves. The addition of references to the IST Program in SR(s) where applicable and the deletion of references to the SFCP in SR testing credited by the IST Program are administrative in nature and can neither initiate nor exacerbate any accident previously evaluated. Similarly, the deletion of SR 4.0.5 and the relocation of the RCP flywheel inspection requirements within the TS are administrative changes and cannot affect the likelihood or outcome of any accident previously evaluated. Deletion of the SR 4.4.6.2.2.c requirement regarding returning Pressure Isolation Valves (PIVs) to service following maintenance, repair or replacement, deletion of a SR 4.5.1.1.d footnote previously applicable during Unit 3 Cycle 26, and related editorial changes are administrative changes in nature and do not alter any plant equipment or the results of any accident analyses.

Therefore, the proposed change does not involve a significant increase in the probability or consequences of an accident previously evaluated.

2. Does the proposed amendment create the possibility of a new or different kind of accident from any accident previously evaluated?

Response: No.

The deletion of IST acceptance criteria from the TS does not affect the manner in which any SSC [system, structure, or component] is maintained or operated and does not introduce new SSCs or new methods for maintaining existing plant SSCs. Inservice testing will continue in the manner and periodicity specified in the IST program and hence no new or different kind of accident can result. The addition of references to the IST Program in SR(s) where applicable and the deletion of references to the SFCP in SR testing credited by the IST Program are administrative changes and cannot affect the manner in which any SSC is maintained or operated. The deletion of SR 4.0.5 and the relocation of the RCP flywheel inspection requirements within the TS are administrative changes and cannot be an initiator of a new or different kind of accident. Deletion of the SR 4.4.6.2.2.c requirement regarding returning PIV(s) to service following maintenance, repair or replacement, deletion of a SR 4.5.1.1.d footnote previously applicable during Unit 3 Cycle 26, and other editorial changes are administrative changes in nature and do not introduce any new plant equipment, failure modes or accident analyses postulated outcomes.

Therefore, the proposed change does not create the possibility of a new or different kind of accident from any previously evaluated.

3. Does the proposed amendment involve a significant reduction in a margin of safety?

Response: No.

The proposed changes do not involve changes to any safety analyses assumptions, safety limits, or limiting safety system settings nor do they adversely impact plant operating margins or the reliability of equipment credited in the safety analyses. The reliability of credited equipment is enhanced through added assurance that inservice inspection and inservice testing will be performed in the manner and within the timeframes established by the ASME Code requirements of 10 CFR 50.55(a)(g) and 10 CFR 50.55(a)(f), respectively. The deletion of SR 4.0.5 and the relocation of the RCP flywheel inspection requirements within the TS are administrative changes with no impact on the margin of safety currently described the Updated Final Safety Analysis Report. Deletion of the SR 4.4.6.2.2.c requirement regarding returning PIV(s) to service following maintenance, repair or replacement, deletion of a SR 4.5.1.1.d footnote previously applicable during Unit 3 Cycle 26, and other editorial changes are administrative changes in nature with no impact on nuclear safety.

Therefore, the proposed changes do not involve a significant reduction in the margin of safety.

The NRC staff has reviewed the licensee's analysis and, based on this review, it appears that the three standards of 10 CFR 50.92(c) are satisfied. Therefore, the NRC staff proposes to determine that the amendment request involves no significant hazards consideration.

Attorney for licensee: William S. Blair, Managing Attorney—Nuclear, Florida Power & Light Company, 700 Universe Blvd. MS LAW/JB, Juno Beach, FL 33408-0420.

NRC Branch Chief: Undine Shoop.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2 (HNP), Appling County, Georgia

Date of amendment request: April 7, 2017. A publicly-available version is in ADAMS under Accession No. ML17097A322.

Description of amendment request: The amendments would revise Technical Specification (TS) 3.6.4.1, “Secondary Containment,” Surveillance Requirement (SR) 3.6.4.1.2 to provide an allowance for brief, inadvertent, simultaneous opening of redundant secondary containment access doors during normal entry and exit conditions.

Basis for proposed no significant hazards consideration determination: As required by 10 CFR 50.91(a), the licensee has provided its analysis of the issue of no significant hazards consideration, which is presented below:

1. Does the proposed change involve a significant increase in the probability or consequences of an accident previously evaluated?

Response: No.

The proposed change allows temporary conditions during which secondary containment SR 3.6.4.1.2 is not met. The secondary containment is not an initiator of any accident previously evaluated. As a result, the probability of any accident previously evaluated is not increased.

Since the access doors are only opened briefly, were an accident to occur with both doors simultaneously open, the doors would close quickly enough such that the SGTS [Standby Gas Treatment System] would not be hindered in its ability to adequately draw down the secondary containment within the time assumed in the accident analysis. The dose consequences would therefore be no worse than assumed in the current HNP accident analysis and within the federal guidelines of 10 CFR 50.67. As a result, the consequences of an accident previously evaluated are not significantly increased.

Therefore, the proposed change does not involve a significant increase in the probability or consequences of an accident previously evaluated.

2. Does the proposed change create the possibility of a new or different kind of accident from any accident previously evaluated?

Response: No.

The proposed change does not alter the protection system design, create new failure modes, or change any modes of operation. The proposed change does not involve a physical alteration of the plant, and no new or different kind of equipment will be installed. Consequently, there are no new initiators that could result in a new or different kind of accident.

Therefore, the proposed change does not create the possibility of a new or different kind of accident from any accident previously evaluated.

3. Does the proposed change involve a significant reduction in a margin of safety?

Response: No.

The proposed change allows temporary conditions during which secondary containment SR 3.6.4.1.2 is not met. The allowance for both an inner and outer secondary containment access door to be open simultaneously for entry and exit does not affect the safety function of the secondary containment as the doors are promptly closed after entry or exit, thereby restoring the secondary containment boundary. In addition, brief, inadvertent, simultaneous opening and closing of redundant secondary containment access doors during normal entry and exit conditions does not affect the ability of the Standby Gas Treatment [S]ystem to establish the required secondary containment vacuum. Therefore, the safety function of the secondary containment is not affected.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, Inc., 40 Inverness Center Parkway, Birmingham, AL 35242.

NRC Branch Chief: Michael T. Markley.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: April 20, 2017. A publicly-available version is in ADAMS under Accession No. ML17114A377.

Description of amendment request: The amendments would revise the Technical Specifications (TSs) by replacing the existing requirements related to “operations with a potential for draining the reactor vessel” (OPDRVs) with new requirements on Reactor Pressure Vessel Water Inventory Control (RPV WIC) to protect Safety Limit 2.1.1.3, which requires the reactor vessel water level to be greater than the top of active irradiated fuel. The proposed amendments would adopt changes, with variations, based on the NRC-approved safety evaluation for Technical Specification Task Force (TSTF) Traveler TSTF-542, Revision 2, “Reactor Pressure Vessel Water Inventory Control,” dated December 20, 2016 (ADAMS Accession No. ML16343B066).

Basis for proposed no significant hazards consideration determination: As required by 10 CFR 50.91(a), the licensee has provided its analysis of the issue of no significant hazards consideration, which is presented below:

1. Does the proposed amendment involve a significant increase in the probability or consequences of an accident previously evaluated?

Response: No.

The proposed change replaces existing TS requirements related to OPDRVs with new requirements on RPV WIC that will protect Safety Limit 2.1.1.3. Draining of RPV water inventory in Mode 4 (i.e., cold shutdown) and Mode 5 (i.e., refueling) is not an accident previously evaluated and, therefore, replacing the existing TS controls to prevent or mitigate such an event with a new set of controls has no effect on any accident previously evaluated. RPV water inventory control in Mode 4 or Mode 5 is not an initiator of any accident previously evaluated. The existing OPDRV controls or the proposed RPV WIC controls are not mitigating actions assumed in any accident previously evaluated.

The proposed change reduces the probability of an unexpected draining event (which is not a previously evaluated accident) by imposing new requirements on the limiting time in which an unexpected draining event could result in the reactor vessel water level dropping to the top of the active fuel (TAF). These controls require cognizance of the plant configuration and control of configurations with unacceptably short drain times. These requirements reduce the probability of an unexpected draining event. The current TS requirements are only mitigating actions and impose no requirements that reduce the probability of an unexpected draining event.

The proposed change reduces the consequences of an unexpected draining event (which is not a previously evaluated accident) by requiring an Emergency Core Cooling System (ECCS) subsystem to be Operable at all times in Modes 4 and 5. The current TS requirements do not require any water injection systems, ECCS or otherwise, to be Operable in certain conditions in Mode 5. The change in requirement from two ECCS subsystems to one ECCS subsystem in Modes 4 and 5 does not significantly affect the consequences of an unexpected draining event because the proposed Actions ensure equipment is available within the limiting drain time that is as capable of mitigating the event as the current requirements. The proposed controls provide escalating compensatory measures to be established as calculated drain times decrease, such as verification of a second method of water injection and additional confirmations that containment and/or filtration would be available if needed.

The proposed change reduces or eliminates some requirements that were determined to be unnecessary to manage the consequences of an unexpected draining event, such as automatic initiation of an ECCS subsystem and control room ventilation. These changes do not affect the consequences of any accident previously evaluated since a draining event in Modes 4 and 5 is not a previously evaluated accident and the requirements are not needed to adequately respond to a draining event.

Therefore, the proposed change does not involve a significant increase in the probability or consequences of an accident previously evaluated.

2. Does the proposed amendment create the possibility of a new or different kind of accident from any accident previously evaluated?

Response: No.

The proposed change replaces existing TS requirements related to OPDRVs with new requirements on RPV WIC that will protect Safety Limit 2.1.1.3. The proposed change will not alter the design function of the equipment involved. Under the proposed change, some systems that are currently required to be Operable during OPDRVs would be required to be available within the limiting drain time or to be in service depending on the limiting drain time. Should those systems be unable to be placed into service, the consequences are no different than if those systems were unable to perform their function under the current TS requirements.

The event of concern under the current requirements and the proposed change is an unexpected draining event. The proposed change does not create new failure mechanisms, malfunctions, or accident initiators that would cause a draining event or a new or different kind of accident not previously evaluated or included in the design and licensing bases.

Therefore, the proposed change does not create the possibility of a new or different kind of accident from any previously evaluated.

3. Does the proposed amendment involve a significant reduction in a margin of safety?

Response: No.

The proposed change replaces existing TS requirements related to OPDRVs with new requirements on RPV WIC. The current requirements do not have a stated safety basis and no margin of safety is established in the licensing basis. The safety basis for the new requirements is to protect Safety Limit 2.1.1.3. New requirements are added to determine the limiting time in which the RPV water inventory could drain to the top of the fuel in the reactor vessel should an unexpected draining event occur. Plant configurations that could result in lowering the RPV water level to the TAF within one hour are now prohibited. New escalating compensatory measures based on the limiting drain time replace the current controls. The proposed TS establish a safety margin by providing defense-in-depth to ensure that the Safety Limit is protected and to protect the public health and safety. While some less restrictive requirements are proposed for plant configurations with long calculated drain times, the overall effect of the change is to improve plant safety and to add safety margin.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, Inc., 40 Inverness Center Parkway, Birmingham, AL 35242.

NRC Branch Chief: Michael T. Markley.

Southern Nuclear Operating Company, Inc., Docket Nos. 50-424 and 50-425, Vogtle Electric Generating Plant, Units 1 and 2 (VEGP), Burke County, Georgia

Date of amendment request: June 22, 2017. A publicly-available version is in ADAMS under Accession No. ML17173A875.

Description of amendment request: The proposed amendments would incorporate use of the plant-specific seismic probabilistic risk assessment (SPRA) into the previously approved 10 CFR 50.69 risk-informed categorization process and treatment of structures, systems, and components (SSCs) for nuclear power reactors. Specifically, the amendments would change from a seismic margins approach (SMA) to an SPRA approach.

Basis for proposed no significant hazards consideration determination: As required by 10 CFR 50.91(a), the licensee has provided its analysis of the issue of no significant hazards consideration, which is presented below:

1. Does the proposed change involve a significant increase in the probability or consequences of an accident previously evaluated?

Response: No.

The proposed change replaces the use of the VEGP SMA with use of the peer reviewed VEGP SPRA within the NRC approved risk-informed categorization process to modify the scope of SSCs subject to NRC special treatment requirements and to implement alternative treatments per the regulations. The use of an SPRA in place of an SMA is allowed by the 50.69 process guidance defined in [Nuclear Energy Institute] NEI 00-04 [“10 CFR 50.69 SSC Categorization Guideline”] as endorsed by NRC in [Regulatory Guide] RG 1.201 [“Guidelines for Categorizing Structures, Systems, and Components in Nuclear Power Plants According to their Safety Significance.”] The process used to evaluate SSCs for changes to NRC special treatment requirements and the use of alternative requirements ensures the ability of the SSCs to perform their design function. The potential change to special treatment requirements does not change the design and operation of the SSCs. As a result, the proposed change does not significantly affect any initiators to accidents previously evaluated or the ability to mitigate any accidents previously evaluated. The consequences of the accidents previously evaluated are not affected because the mitigation functions performed by the SSCs assumed in the safety analysis are not being modified. The SSCs required to safely shut down the reactor and maintain it in a safe shutdown condition following an accident will continue to perform their design functions.

Therefore, the proposed change does not involve a significant increase in the probability or consequences of an accident previously evaluated.

2. Does the proposed change create the possibility of a new or different kind of accident from any accident previously evaluated?

Response: No.

The proposed change continues to permit the use of a risk-informed categorization process to modify the scope of SSCs subject to NRC special treatment requirements and to implement alternative treatments per the regulations. The proposed change does not change the functional requirements, configuration, or method of operation of any SSC. Under the proposed change, no additional plant equipment will be installed.

Therefore, the proposed change does not create the possibility of a new or different kind of accident from any accident previously evaluated.

3. Does the proposed change involve a significant reduction in a margin of safety?

Response: No.

The proposed change will continue to permit the use of a risk-informed categorization process to modify the scope of SSCs subject to NRC special treatment requirements and to implement alternative treatments per the regulations. The proposed change does not affect any Safety Limits or operating parameters used to establish the safety margin. The safety margins included in analyses of accidents are not affected by the proposed change. The regulation requires that there be no significant effect on plant risk due to any change to the special treatment requirements for SSCs and that the SSCs continue to be capable of performing their design basis functions, as well as to perform any beyond design basis functions consistent with the categorization process and results.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Iverness Center Parkway, Birmingham, AL 35242.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Florida Power & Light Company, et al., Docket Nos. 50-335 and 50-389, St. Lucie Plant, Unit Nos. 1 and 2, St. Lucie County, Florida

Date of amendment request: September 16, 2016.

Brief description of amendments: The amendments revised the St. Lucie Plant, Unit Nos. 1 and Unit 2, Technical Specifications by removing certain process radiation monitors and placing their requirements in a licensee-controlled manual. The amendments also changed the Unit 2 containment particulate radiation monitor range.

Date of issuance: August 14, 2017.

Effective date: As of the date of issuance and shall be implemented within 90 days of issuance.

Amendment Nos.: 239 (Unit No. 1) and 190 (Unit No. 2). A publicly-available version is in ADAMS under Accession No. ML17195A291; documents related to these amendments are listed in the Safety Evaluation enclosed with the amendments.

Renewed Facility Operating License Nos. DPR-67 and NPF-16: Amendments revised the Renewed Facility Operating Licenses and Technical Specifications.

Date of initial notice in Federal Register: December 6, 2016 (81 FR 87972).

The Commission's related evaluation of the amendments is contained in a Safety Evaluation dated August 14, 2017.

No significant hazards consideration comments received: No.

Florida Power & Light Company, Docket Nos. 50-250 and 50-251, Turkey Point Nuclear Generating Unit Nos. 3 and 4, Miami-Dade County, Florida

Date of amendment request: August 3, 2016, as supplemented by letters dated October 4, 2016; January 27, 2017; March 31, 2017; and May 24, 2017.

Brief description of amendments: The amendments revised the Technical Specification (TS) requirements for the Control Room Emergency Ventilation System (CREVS). The licensee proposed the changes to align the CREVS TSs more closely with the applicable Standard Technical Specifications. Consequently, the requirements to immediately suspend irradiated fuel movement were relocated, in most cases, to coincide with the commencement of unit shutdown(s) in the event that the allowable outage time cannot be met for an inoperable CREVS component or control room envelope boundary. The amendments also eliminated the TS limiting conditions for operation, actions, and surveillance requirements associated with the CREVS kitchen and lavatory ventilation exhaust duct isolation dampers.

Date of issuance: August 3, 2017.

Effective date: As of the date of issuance and shall be implemented within 90 days of issuance.

Amendment Nos: 275 (Unit No. 3) and 270 (Unit No. 4). A publicly-available version is in ADAMS under Accession No. ML17172A115. Documents related to these amendments are listed in the Safety Evaluation enclosed with the amendments.

Renewed Facility Operating License Nos. DPR-31 and DPR-41: Amendments revised the Renewed Facility Operating Licenses and TSs.

Date of initial notice in Federal Register: November 8, 2016 (81 FR 78653). The supplements dated January 27, 2017; March 31, 2017; and May 24, 2017, provided additional information that clarified the application, did not expand the scope of the application as originally noticed, and did not change the NRC staff's original proposed no significant hazards consideration determination as published in the Federal Register.

The Commission's related evaluation of the amendments is contained in a Safety Evaluation dated August 3, 2017.

No significant hazards consideration comments received: No.

Northern States Power Company—Minnesota, Docket Nos. 50-282 and 50-306, Prairie Island Nuclear Generating Plant (PINGP), Units 1 and 2, Goodhue County, Minnesota

Date of amendment request: September 28, 2012, as supplemented by letters dated November 8, 2012, December 18, 2012, May 3, 2013, October 17, 2013, April 30, 2014, May 28, 2015, June 19, 2015, October 6, 2015, October 22, 2015, January 20, 2016, May 24, 2016, August 17, 2016, December 14, 2016, and March 6, 2017.

Brief description of amendment: The amendments revised the licenses, including the Technical Specifications (TS), for PINGP, Units 1 and 2, to establish and maintain fire protection program in accordance with the requirements of 10 CFR 50.48(c).

Date of issuance: August 8, 2017.

Effective date: As of the date of issuance and shall be implemented consistent with condition 2.C.(4) of each license.

Amendment Nos.: 220-Unit 1; 207-Unit 2. A publicly-available version is in ADAMS under Accession No. ML17163A027; documents related to these amendments are listed in the Safety Evaluation enclosed with the amendments.

Renewed Facility Operating License Nos. DPR-42 and DPR-60: The amendments revised the Renewed Facility Operating Licenses and TSs.

Date of initial notice in Federal Register: April 2, 2013 (78 FR 19753). The supplemental letters dated May 3, 2013, October 17, 2013, April 30, 2014, May 28, 2015, June 19, 2015, October 6, 2015, October 22, 2015, January 20, 2016, May 24, 2016, August 17, 2016, December 14, 2016, and March 6, 2017, provided additional information that clarified the application, did not expand the scope of the application as originally noticed, and did not change the staff's original proposed no significant hazards consideration determination as published in the Federal Register.

The Commission's related evaluation of the amendment is contained in a Safety Evaluation dated August 8, 2017.

No significant hazards consideration comments received: No.

PSEG Nuclear LLC, Docket No. 50-354, Hope Creek Generating Station, Salem County, New Jersey

Date of amendment request: September 21, 2015, as supplemented by letters dated November 19, 2015; June 17, 2016; September 12, 2016; and September 23, 2016.

Brief description of amendment: The amendment approved changes to the Hope Creek Generating Station Technical Specifications (TSs) to reflect installation of the General Electric-Hitachi Digital Nuclear Measurement Analysis and Control Power Range Neutron Monitoring system.

Date of issuance: August 4, 2017.

Effective date: The license amendment is effective as of its date of issuance and shall be implemented prior to entry into OPCON 4 during startup from refueling outage 21.

Amendment No.: 206. A publicly-available version is in ADAMS under Accession No. ML17216A022; documents related to this amendment are listed in the Safety Evaluation enclosed with the amendment.

Renewed Facility Operating License No. NPF-57: Amendment revised the Renewed Facility Operating License and TSs.

Date of initial notice in Federal Register: June 7, 2016 (81 FR 36607). The supplemental letters dated June 17, 2016; September 12, 2016; and September 23, 2016, provided additional information that clarified the application, did not expand the scope of the application as originally noticed, and did not change the NRC staff's original proposed no significant hazards consideration determination as published in the Federal Register.

The Commission's related evaluation of the amendment is contained in a Safety Evaluation dated August 4, 2017.

No significant hazards consideration comments received: No.

Southern Nuclear Operating Company, Inc., Docket Nos. 50-424 and 50-425, Vogtle Electric Generating Plant, Units 1 and 2, Burke County, Georgia

Date of application for amendments: September 13, 2012, as supplemented by letters dated August 2, 2013; July 3, July 17, November 11, and December 12, 2014; March 16 and May 5, 2015; February 17, April 18, and July 13, 2016; and March 13, April 14, May 4, and June 2, 2017.

Brief description of amendments: The amendments revised certain Technical Specification (TS) requirements related to Completion Times for Required Actions to provide the option to calculate a longer, risk-informed Completion Time. The allowance will be described in a new program, “Risk Informed Completion Time (RICT) Program,” that is added to TS 5.5, “Administrative Controls.”

Date of issuance: August 8, 2017.

Effective date: As of the date of issuance and shall be implemented within 120 days from the date of issuance.

Amendment Nos.: Unit 1-188; Unit 2-171. A publicly-available version is in ADAMS under Accession No. ML15127A669. Documents related to the amendments are listed in the Safety Evaluation enclosed with the amendments.

Renewed Facility Operating License Nos. NPF-68 and NPF-81: Amendments revised the Renewed Facility Operating Licenses and TSs.

Date of initial notice in Federal Register: March 17, 2015 (80 FR 13913). The supplemental letters dated March 16 and May 5, 2015; February 17, April 18, and July 13, 2016; and March 13, April 14, May 4, and June 2, 2017, provided additional information that clarified the application, did not expand the scope of the application as originally noticed, and did not change the staff's original proposed no significant hazards consideration determination as published in the Federal Register.

The Commission's related evaluation of the amendments is contained in a Safety Evaluation dated August 8, 2017.

No significant hazards consideration comments received: No.

Southern Nuclear Operating Company, Docket Nos. 52-025 and 52-026, Vogtle Electric Generating Plant (VEGP), Units 3 and 4, Burke County, Georgia

Date of amendment request: March 11, 2016, as revised by letters dated July 12, 2016, and May 5, 2017, and as supplemented by letter dated October 20, 2016.

Description of amendment: The amendment authorizes changes to the VEGP, Units 3 and 4 Updated Final Safety Analysis Report in the form of departures from the incorporated plant specific Design Control Document Tier 2* and Tier 2 information. The changes are to text and figures that describe the connections between floor modules and structural wall modules in the containment internal structures.

Date of issuance: July 20, 2017.

Effective date: As of the date of issuance and shall be implemented within 30 days of issuance.

Amendment No.: 82 (Unit 3) and 81 (Unit 4). A publicly-available version is in ADAMS under Accession No. ML17180A040; documents related to this amendment are listed in the Safety Evaluation enclosed with the amendment.

Facility Combined Licenses No. NPF-91 and NPF-92: Amendment revised the Facility Combined Licenses.

Date of initial notice in Federal Register: August 16, 2016 (81 FR 54617). The October 20, 2016, supplement and May 5, 2017, revision provided additional information that clarified the application, did not expand the scope of the application as originally noticed, and did not change the NRC staff's original proposed no significant hazards consideration determination. The Commission's related evaluation of the amendment is contained in the Safety Evaluation dated July 20, 2017.

No significant hazards consideration comments received: No.

Dated at Rockville, Maryland, this 17th day of August 2017.
For the Nuclear Regulatory Commission.
Kathryn M. Brock,
Deputy Director, Division of Operating Reactor Licensing, Office of Nuclear Reactor Regulation.

[FR Doc. 2017-17936 Filed 8-28-17; 8:45 am]

BILLING CODE 7590-01-P